DEPARTMENT OF ENERGY

Federal Energy Regulatory Commission

[Docket No. EG00-112-000, et al.]

DTE River Rouge No. 1, LLC, et al.; Electric Rate and Corporate Regulation Filings

March 9, 2000.

Take notice that the following filings have been made with the Commission:

1. DTE River Rouge No. 1, LLC

[Docket No. EG00-112-000]

Take notice that on March 6, 2000, DTE River Rouge No. 1, LLC (Applicant), a Michigan limited liability company, with its principal place of business at 425 S. Main Street, Suite 201, Ann Arbor, Michigan 48107, filed with the Federal Energy Regulatory Commission an application for determination of exempt wholesale generator status pursuant to Part 365 of the Commission's regulations.

Comment date: March 30, 2000, in accordance with Standard Paragraph E at the end of this notice. The Commission will limit its consideration of comments to those that concern the adequacy or accuracy of the application.

2. Black River Limited Partnership

[Docket No. EL00-48-000]

Take notice that on March 6, 2000, Black River Limited Partnership filed with the Federal Energy Regulatory Commission (Commission) a petition for declaratory order disclaiming jurisdiction and a request for expedited consideration.

Comment date: April 5, 2000, in accordance with Standard Paragraph E at the end of this notice.

3. Florida Power & Light Company

[Docket No. ER00-1732-000]

Take notice that on February 29, 2000, Florida Power & Light Company (FPL), tendered for filing a settlement agreement (the Settlement Agreement) entered into by and between FPL and Florida Keys Electric Cooperative Association (FKEC) to the “Long-Term Agreement to Provide Capacity and Energy by Florida Power & Light to Florida Keys Electric Cooperative Association, Inc.” (FERC Rate Schedule No. 130). The purpose of the Settlement Agreement is to modify the contractual formula rate applied in calculating the demand charges.

Comment date: March 20, 2000, in accordance with Standard Paragraph E at the end of this notice.

4. Pacific Gas and Electric Company

[Docket No. ER00-1807-000]

Take notice that on March 6, 2000, Pacific Gas and Electric Company (PG&E) filed a revised and amended Control Area Service Agreement between Dynegy Power Services, Inc. (DPS) and PG&E (Revised CATSA) and PG&E's request for withdrawal of the Second Amendment to the CATSA submitted on November 1, 1996 in Docket No. ER97-320-000.

The proposed revisions modify the existing CATSA to conform to the terms of a Settlement Agreement between DPS and PG&E, dated May 8, 1999.

Copies of this filing have been served upon DPS, the California Independent System Operator Corporation, the California Public Utilities Commission and the intervenors in Docket No. ER00-902-000.

Comment date: March 27, 2000, in accordance with Standard Paragraph E at the end of this notice.

5. Duke Power a Division of Duke Energy Corporation

[Docket No. ER00-1808-000]

Take notice that on March 6, 2000, Duke Power (Duke), a division of Duke Energy Corporation, tendered for filing a Service Agreement with American Municipal Power—Ohio, Inc. for power sales at market-based rates.

Duke requests that the proposed Service Agreement be permitted to become effective on September 10, 1999.

Duke states that this filing is in accordance with Part 35 of the Commission's Regulations and a copy has been served on the North Carolina Utilities Commission.

Comment date: March 27, 2000, in accordance with Standard Paragraph E at the end of this notice.

6. Avista Corporation

[Docket No. ER00-1809-000]

Take notice that on March 6, 2000, Avista Corporation tendered for filing with the Federal Energy Regulatory Commission (Commission) pursuant to section 35.12 of the Commissions, 18 CFR Part 35.12, an executed Amendment to a Mutual Netting Agreement with Merchant Energy Group of the Americas, previously filed with the Commission under Docket No. ER99-2254-000, Service Agreement No. 271, effective March 24, 1999, changing billing and payment terms.

AVA requests waiver of the prior notice requirements and requests an effective date of March 1, 2000 for the amended terms for net billing of transactions.

This filing has been served upon the following: Ms. Vangie McGilloway, Contract Administrator, Merchant Group of the Americas, 151 West Street, Suite 300, Annapolis, MD 21401.

Comment date: March 27, 2000, in accordance with Standard Paragraph E at the end of this notice.

7. Conectiv Energy Supply, Inc.

[Docket No. ER00-1810-000]

Take notice that on March 6, 2000, Conectiv Energy Supply, Inc. (CESI) filed with the Federal Energy Regulatory Commission a letter approving its membership in the Western Systems Power Pool (WSPP).

CESI requests that the Commission allow its membership in the WSPP to become effective on March 7, 2000.

CESI states that a copy of this filing has been served on the Delaware Public Service Commission, the WSPP Executive Committee, General Counsel to the WSPP and the members of the WSPP.

Comment date: March 27, 2000, in accordance with Standard Paragraph E at the end of this notice.

8. Portland General Electric Company

[Docket No. ER00-1811-000]

Take notice that on March 6, 2000, Portland General Electric Company (PGE) tendered for filing under PGE's Final Rule pro forma tariff (FERC Electric Tariff First Revised Volume No. 8, Docket No. OA96-137-000), executed Service Agreements for Short-Term Firm and Non-Firm Point-to-Point Transmission Service with Coral Power, LLC.

PGE requests that the Service Agreement become effective March 1, 2000.

A copy of this filing was served on Coral Power, LLC.

Comment date: March 27, 2000, in accordance with Standard Paragraph E at the end of this notice.

9. Allegheny Energy Service Corporation, on behalf of Allegheny Energy Supply Company LLC

[Docket No. ER00-1812-000]

Take notice that on March 6, 2000, Allegheny Energy Service Corporation on behalf of Allegheny Energy Supply Company, LLC (Allegheny Energy Supply Company) filed Amendment No. 2 to Supplement No. 9 to complete the filing requirement for one (1) new Customer of the Market Rate Tariff under which Allegheny Energy Supply offers generation services.

Allegheny Energy requests a waiver of notice requirements to make service available as of November 24, 1999, to Virginia Electric & Power Company.

Copies of the filing have been provided to the Public Utilities Commission of Ohio, the Pennsylvania Public Utility Commission, the Maryland Public Service Commission, the Virginia State Corporation Commission, the West Virginia Public Service Commission, and all parties of record.

Comment date: March 27, 2000, in accordance with Standard Paragraph E at the end of this notice.

10. Avista Turbine Power, Inc.

[Docket No. ER00-1814-000]

Take notice that on March 6, 2000, Avista Turbine Power, Inc. (Avista Turbine) tendered for filing a petition for acceptance of an initial rate schedule authorizing Avista Turbine to make wholesale sales of power at market-based rates.

Comment date: March 27, 2000, in accordance with Standard Paragraph E at the end of this notice.

11. Otter Tail Power Company

[Docket No. ER00-1815-000]

Take notice that on March 6, 2000, Otter Tail Power Company (OTP) tendered for filing a Service Agreement between OTP and Northcentral Power Co. The Service Agreement allows Northcentral Power Co. to purchase capacity and/or energy under OTP's Coordination Sales Tariff.

Comment date: March 27, 2000, in accordance with Standard Paragraph E at the end of this notice.

12. DTE River Rouge No. 1, LLC

[Docket No. ER00-1816-000]

Take notice that on March 6, 2000, DTE River Rouge No. 1, LLC (DTE-River Rouge) submitted a petition for authorization to make sales of capacity and energy at market-based rates, and a request for certain related blanket authorizations and waivers.

Comment date: March 27, 2000, in accordance with Standard Paragraph E at the end of this notice.

13. California Independent System Operator Corporation

[Docket No. ER00-1818-000]

Take notice that the California Independent System Operator Corporation, on March 6, 2000, tendered for filing a Scheduling Coordinator Agreement between the ISO and Constellation Power Source, Inc. for acceptance by the Commission.

The ISO is requesting waiver of the 60-day notice requirement to allow the Scheduling Coordinator Agreement to be made effective as of February 28, 2000.

The ISO states that this filing has been served on Constellation Power Source, Inc. and the California Public Utilities Commission.

Comment date: March 27, 2000, in accordance with Standard Paragraph E at the end of this notice.

14. Northern States Power Company (Minnesota)

[Docket No. ER00-1819-000]

Northern States Power Company (Wisconsin)

Take notice that on March 6, 2000, Northern States Power Company (Minnesota) and Northern States Power Company (Wisconsin) (jointly NSP) tendered for filing a Non-Firm and a Short-Term Firm Point-to-Point Transmission Service Agreement between NSP and Allegheny Energy Supply Company, LLC.

NSP requests that the Commission make the Agreement effective February 7, 2000.

Comment date: March 27, 2000, in accordance with Standard Paragraph E at the end of this notice.

15. Commonwealth Edison Company and Commonwealth Edison Company of Indiana

[Docket No. ER00-1820-000]

Take notice that on March 6, 2000, Commonwealth Edison Company and Commonwealth Edison Company of Indiana (collectively ComEd) filed amendments to ComEd's Open Access Transmission Tariff (OATT) to add an Appendix K prescribing procedures for the interconnection of generation.

ComEd requests an effective date of May 1, 2000 for the proposed amendments and accordingly requests waiver of the Commission's notice requirements.

Copies of the filing were served upon ComEd's jurisdictional customers and interested state commissions.

Comment date: March 27, 2000, in accordance with Standard Paragraph E at the end of this notice.

16. PJM Interconnection, L.L.C.

[Docket No. ER00-1825-000]

Take notice that on March 6, 2000, PJM Interconnection, L.L.C. (PJM) tendered for filing one signature page of Washington Gas Energy Services, Inc. to the Reliability Assurance Agreement among Load Serving Entities in the PJM Control Area (RAA), and an amended Schedule 17 listing the parties to the RAA.

PJM states that it served a copy of its filing on all parties to the RAA, including Washington Gas Energy Services, Inc., and each of the electric regulatory commissions within the PJM Control Area.

Comment date: March 27, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-6598 Filed 3-16-00; 8:45 am]

BILLING CODE 6717-01-P